DEPARTMENT OF COMMERCE

National Oceanic and Atmospheric Administration

[I.D. 011300A]

Marine Mammals; Scientific Research Permit No. 962-1530

AGENCY: National Marine Fisheries Service (NMFS), National Oceanic and Atmospheric Administration (NOAA), Commerce.

ACTION: Issuance of permit.

SUMMARY: Notice is hereby given that Dr. Stephen D. Busack, Director Research and Collections, North Carolina State Museum of Natural Sciences, 102 North Salisbury St., Raleigh NC 27603 has been issued a permit to import a marine mammal specimen for scientific purposes.

ADDRESSES: The permit and related documents are available for review upon written request or by appointment. (see SUPPLEMENTARY INFORMATION)

SUPPLEMENTARY INFORMATION: On November 10, 1999 notice was published in the Federal Register (64 FR 61278) that a request for a scientific research permit to import one blue whale skeleton as a scientific specimen had been submitted by the above-named individual. The requested permit has been issued under the authority of the Marine Mammal Protection Act of1972, as amended (16 U.S.C. 1361 et seq.) and the Regulations Governing the Taking and Importing of Marine Mammals (50 CFR part 216), and the Endangered Species Act of 1973 (ESA, 16 U.S.C. 1531 et seq.), and the regulations governing the taking, importing and exporting of endangered fish and wildlife (50 CFR 222.23).

Issuance of this permit as required by the ESA is based on a finding that such permit: (1) Was applied for in good faith: (2) Will not operate to the disadvantage of the endangered species which are the subject of this permit: and (3) is consistent with the purposes and policies set forth in Section 2 of the ESA.

Addresses: Documents are available in the following offices: Permits Division, Office of Protected Resources, NMFS, 1315 East-West Highway, Room 13130, Silver Spring, MD 20910 (301/713-2289);

Northeast Region, NMFS, One Blackburn Drive, Gloucester, MA 01930-2289 (508/281-9250);

Southeast Region, NMFS, 9721 Executive Center Drive North, St. Petersburg, FL 33702-2432 (813/570-5301);

Southwest Region, NMFS, 501 West Ocean Blvd., Suite 4200, Long Beach, CA 90802-4213 (310/980-4001);

Northwest Region, NMFS, 7600 Sand Point Way, NE, BIN C15700, Bldg., 1, Seattle, WA 98115-0070 (206/526-6150); and

Alaska Region, NMFS, P.O. Box 21668, Juneau, AK 99802-1668 (907/586-7221).

Dated: February 25, 2000.
Ann D. Terbush,
Chief, Permits and Documentation Division, Office of Protected Resources, National Marine Fisheries Service.

[FR Doc. 00-5066 Filed 3-1-00; 8:45 am]

BILLING CODE 3510-22-F